DEPARTMENT OF HOUSING AND URBAN DEVELOPMENT

[Docket No. FR-5376-N-04]

Enterprise Income Verification (EIV) System-Debts Owed to PHAs and Terminations

AGENCY: Office of the Chief Information Officer, HUD.

ACTION: Notice.

SUMMARY: The proposed information collection requirement described below has been submitted to the Office of Management and Budget (OMB) for review, as required by the Paperwork Reduction Act. The Department is soliciting public comments on the subject proposal.

This information collection is required to identify families who no longer participate in a HUD rental assistance program due to adverse termination of tenancy and/or assistance, land owe a debit to a Public Housing Agency (PHA). The information will be used by PHAs to determine a family's suitability for rental assistance, and avoid providing limited Federal housing assistance to families who have previously demonstrated an inability to comply with HUD program requirements or who have an unpaid debt to a PHA.

DATES: Comments Due Date: February 25, 2010.

ADDRESSES: Interested persons are invited to submit comments regarding this proposal. Comments should refer to the proposal by name and/or OMB approval Number (2577-New) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Enterprise Income Verification (EIV) System-Debts Owed to PHAs and Terminations.

OMB Approval Number: 2577-New.

Form Numbers: None.

Description of the Need for the Information And its Proposed Use: This information collection is required to identify families who no longer participate in a HUD rental assistance program due to adverse termination of tenancy and/or assistance, land owe a debit to a Public Housing Agency (PHA). The information will be used by PHAs to determine a family's suitability for rental assistance, and avoid providing limited Federal housing assistance to families who have previously demonstrated an inability to comply with HUD program requirements or who have an unpaid debt to a PHA.

Frequency of Submission: On occasion

| Number of respondents | Annual responses | × | Hours per responses | = | Burden hours
Reporting Burden | 4,094 | 87.02 |  | 0.0833 |  | 29,689.17

Total Estimated Burden Hours: 29,689.17.

Status: New Collection.

Authority: Section 3507 of the Paperwork Reduction Act of 1995, 44 U.S.C. 35, as amended.

Dated: January 19, 2010.
Leroy McKinney, Jr.,
Departmental Reports Management Officer, Office of the Chief Information Officer.

[FR Doc. 2010-1420 Filed 1-25-10; 8:45 am]

BILLING CODE 4210-67-P